DEPARTMENT OF HEALTH AND HUMAN SERVICES

Administration for Children and Families

Proposed Information Collection Activity; Comment Request

Proposed Projects

Title: Adoption and Foster Care Analysis Reporting System for title IV-B and title IV-E.

OMB No.: 0980-0267.

Description: Section 479 of title IV-E of the Social Security Act directs States to establish and implement an adoption and foster care reporting system. The purpose of the data collected is to inform State/Federal policy decisions, program management, respond to Congressional and Departmental inquiries. Specifically, the data is used for short/long-term budget projects, trend analysis, and to target areas for improved technical assistance. The data will provide information about foster care placements, adoptive parents, length of time in care, delays in termination of parental rights and placement for adoption.

Respondents: 52.

Annual Burden Estimates:

Instrument | Number of respondents | Number of responses per respondent | Average burden hours per response | Total burden hours
AFCARS Electronic Submission | 52 | 2 | 3,251 | 338,104
Estimated Total Annual Burden Hours |  |  |  | 338,104

In compliance with the requirements of Section 3506(c)(2)(A) of the Paperwork Reduction Act of 1995, the Administration for Children and Families in soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 15, 2002.
Robert Sargis,
Reports Clearance Officer.

[FR Doc. 02-26774 Filed 10-21-02; 8:45 am]

BILLING CODE 4184-01-M